ENVIRONMENTAL PROTECTION AGENCY

[ER-FRL-6612-6]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at (202) 564-7167.

An explanation of the ratings assigned to draft environmental impact statements (EISs) was published in FR dated April 14, 2000 (65 FR 20157).

Draft EISs

ERP No. D-COE-H36110-NE Rating EO2, Western Sarpy/Clear Creek Flood Reduction Study Including Environmental Restoration Component, Lower Platte River and Tributaries, Saunders and Sarpy Counties, NE.

Summary: EPA raised objections, noting the potential for significant adverse impacts to natural resources, endangered species, and flood plain values. EPA encouraged the Corps to examine non-structural alternatives to lessen impacts.

ERP No. D-FHW-E40783-SC Rating EC2, Dave Lyle Boulevard Extension, New Location from the S.C. Route 161/Dave Lyle Boulevard Intersection in York County to S.C. Route 75, in the vicinity of the U.S. Route 521/S.C., York County Metropolitan Road Corridor Project, Funding, York and Lancaster Counties, SC.

Summary: EPA expressed concerns regarding potential project impacts related to surface water, wetlands, and threatened and endangered species.

ERP No. D-FHW-H40170-MO Rating LO, U.S. Route 50 East-Central Corridor Study, Highway Improvements from Route 50 to Route 63 east of Jefferson City, Major Transportation Investment Analysis, Osage, Gasconade, and Franklin Counties, MO.

Summary: EPA has no objection to the project as proposed.

ERP No. D-TVA-E39053-TN Rating EO2, Future Water Supply Needs in the Upper Duck River Basin, NPDES Permit and COE Section 404 Permit, Bedford, Marshall, Maury and Williamson Counties, TN.

Summary: EPA expressed objections since EPA does not believe additional source water is needed immediately, especially if conservation measures are implemented during droughts. If selection of a water supply alternative is locally preferred, we recommend implementation of Alternative C over Alternative E if pipeline impacts are minimal or a modification of Alternative E, if feasible, by approximately 2025.

Final EISs

ERP No. F-FHW-F40383-WI WI-113 Wisconsin River Crossing at Merrimac, Improvements, US Coast Guard and COE Section 10 and 404 Permits, Columbia and Sauk Counties, WI.

Summary: EPA has no objections with the preferred alternative.

ERP No. F-FHW-F40387-OH Lancaster Bypass (FAI-US 22/US 33-9.59/9.95) Construction, Funding, Greenfield, Hocking, Berne and Pleasant Townships, Fairfield County, OH.

Summary: EPA's previous concerns have been addressed; EPA does not object to project implementation.

Dated: November 6, 2000.
Ken Mittelholtz,
Environmental Protection Specialist, Office of Federal Activities.

[FR Doc. 00-28839 Filed 11-8-00; 8:45 am]

BILLING CODE 6560-50-P